DEPARTMENT OF AGRICULTURE

Commodity Credit Corporation

Natural Resources Conservation Service

Conservation Security Program

AGENCY: Natural Resources Conservation Service and Commodity Credit Corporation, USDA.

ACTION: Notice.

DATES: The administrative actions announced in the notice are effective on March 27, 2008.

FOR FURTHER INFORMATION CONTACT: Dwayne Howard, Branch Chief—Stewardship Programs, Financial Assistance Programs Division, NRCS, P.O. Box 2890, Washington, DC 20013-2890, telephone: (202) 720-1845; fax: (202) 720-4265. Submit e-mail to: dwayne.howard@wdc.usda.gov, Attention: Conservation Security Program.

SUMMARY: This document announces the Fiscal Year 2008 sign-up, CSP-08-01, for the Conservation Security Program (CSP). This sign-up will be open from April 18, 2008 through May 17, 2008, in selected 8-digit watersheds.

SUPPLEMENTARY INFORMATION: In the Interim Final Rule published March 25, 2005 (7 CFR 15201), USDA's Natural Resources Conservation Service (NRCS) established the implementing regulations for the Conservation Security Program (CSP). The CSP is a voluntary program administered by NRCS, using authorities and funds of the Commodity Credit Corporation, that provides financial and technical assistance to producers who advance the conservation and improvement of soil, water, air, energy, plant and animal life, and other conservation purposes on Tribal and private working lands.

This document announces the Fiscal Year 2008 sign-up, CSP-08-01 that will be open from April 18, 2008 through May 17, 2008, in selected 8-digit watersheds, which can be viewed at: http://www.nrcs.usda.gov/programs/csp/CSP_2008/2008_CSP_WS.html.

These watersheds were selected using the process set forth in the Interim Final Rule. In addition to other data sources, this process used National Resources Inventory data to assess land use, agricultural input intensity, and historic conservation stewardship in watersheds nationwide. NRCS State Conservationists recommended a list of potential watersheds after gaining advice from the State Technical Committees. These 51 watersheds were announced by the Secretary of Agriculture September 25, 2006, and will be carried forward to sign-up CSP-08-01 as no sign-up was conducted in 2007. Producers who are participants in an existing CSP contract may not apply in this sign-up. Applicants can submit one application for this sign-up. Those applicants who are entities or joint operations must file a single application for the organization.

Consistent with the authority to exercise administrative flexibility provided by 7 CFR 1469.2(b), the Chief of NRCS intends to deliver a technically enhanced, streamlined version of CSP during sign-up CSP-08-01. CSP-08-01 will incorporate:

(1) The nationwide piloting of improved national eligibility tools, including the Soil and Water Eligibility Tool, the Grazing Lands Eligibility Tool, and the Wildlife Habitat Eligibility Tool;

(2) The availability of both benchmark and new enhancements at a uniform compensation rate over the contract length rather than declining rates for benchmark enhancements, but will provide no contract improvement modification opportunity for CSP-08-01 participants;

(3) No new practice payments; and

(4) Priority to Tier II and Tier III applications requesting 5-year contracts.

To be eligible for CSP, a majority of the agricultural operation must be within the limits of one of the selected watersheds. Applications which meet the minimum requirements, as set forth in the Interim Final Rule and listed below will be placed in enrollment categories for funding consideration. Categories will be funded in alphabetical order until funds are exhausted. If funds are not available to fund an entire category, then subcategories will be used to determine application funding order within a category. If a category or subcategory cannot be fully funded, applicants may be offered the FY 2008 CSP contract payment on a prorated basis.

Part of the CSP application process is conducted through applicant self-assessment of their conservation system. The applicant is responsible for providing all information that will or may be needed to properly evaluate the agricultural operation to establish benchmark conditions as well as assignment to tier and enrollment category. It is the responsibility of the applicant to request any needed clarification and/or additional information from NRCS in order to provide a complete and accurate application package.

Producers should begin the application process by filling out a CSP Self-Assessment Workbook to determine if they meet the basic qualifications for CSP. Self-assessment workbooks are available in hard copy at USDA Service Centers within the watersheds, or can be downloaded from the NRCS Web site at: http://www.nrcs.usda.gov/programs/csp/CSP_2008/2008_pdfs/SAW2008.

In addition to the self-assessment workbook, an applicant must also submit a benchmark inventory where the applicant documents their current conservation system, including the conservation practices and activities that are ongoing on their operation. This benchmark inventory is used by NRCS to measure an applicant's existing level of conservation activities in order to determine program eligibility, and serves as the basis for the conservation stewardship plan. Once the producer concludes that they meet the CSP requirements as outlined in the workbook, they should make an appointment for an applicant interview to discuss their application with the NRCS local staff to determine if they meet specific CSP eligibility requirements.

In order to apply, applicants must submit the following by the end date of the sign-up period:

(1) A completed self-assessment workbook.

(2) A benchmark condition inventory and associated information that includes:

a. A map, aerial photograph, or overlay that delineates the entire agricultural operation, including land use and acreage;

b. A map of the applicant's land offered for CSP;

c. A description of the applicant's production system(s) on the land offered;

d. The existing conservation practices and resource concerns, problems, and opportunities on the land offered;

e. The Applicant Offer Certification Worksheet that provides the producer-certification of the benchmark condition inventory accuracy, the availability of records to support the current conservation system, and the applicant's selected tier, enrollment category, and subcategory placement;

f. A description of the significant resource concerns and other resource concerns that the applicant is willing to address through the adoption of new conservation practices and measures; and

g. A list of enhancements that the applicant is currently applying, or may be willing to undertake as part of their proposed contract.

(3) Evidence to the satisfaction of NRCS that the applicant has a minimum of 2 years of written records or documentation to support the current conservation system, including fertilizer, nutrient, and pesticide application schedules, cropping and tillage systems, irrigation water management, waste utilization, and grazing and pasture management, as applicable. Applicants will need to supply written records and documentation of their conservation system upon request by NRCS.

(4) A completed NRCS-CPA-1200 available through the Web site, or any USDA Service Center.

(5) Any other requirement specified in the sign-up notice or as requested by NRCS either prior to or during the applicant interview in order to support the application.

The evaluation of an applicant's offered land will be based on the typical system information the applicant provides to NRCS in the self-assessment workbook, the benchmark condition inventory, and during the applicant interview. Technical evaluations will consider conservation system averages represented in the typical system information to determine whether eligibility and treatment requirements are met. Additionally, the typical system information referred to above and provided during the sign-up period will be considered for tier, category, and subcategory placement.

It is the responsibility of the applicant to ensure that the application includes all information needed to support the claimed benchmark condition as well as the tier, category, and subcategory placement. The applicant must certify on the Applicant Offer Certification Worksheet that all materials submitted to NRCS in a CSP application are true, correct, and represent the current conservation system being offered by the applicant. All applications may be subject to quality assurance procedures at any time during the application process or, in the event an application is approved, prior to or following contract award.

If NRCS determines that an applicant intentionally misrepresented any fact affecting a CSP determination, the application will be cancelled immediately or the contract will be terminated in the case where a contract has been awarded, in accordance with the CSP regulation at 7 CFR § 1469.36.

Applicants are encouraged to attend preliminary workshops, which will be announced locally. There, the basic qualifications will be explained, and assistance provided as to completion of the self-assessment workbook and benchmark inventory.

CSP is offered at three tiers of participation. Some payments are adjusted based on the tier, and some payments are tier-neutral. See payment information below.

Minimum Tier Eligibility and Contract Requirements

The following are the minimum tier eligibility and contract requirements:

CSP Tier I—the benchmark condition inventory demonstrates to the satisfaction of NRCS that the applicant has addressed the nationally significant resource concerns of water quality and soil quality to the minimum level of treatment for any eligible landuse on part of the agricultural operation. Only the acreage meeting such requirements is eligible for stewardship and existing practice payments in CSP.

CSP Tier II—the benchmark condition inventory demonstrates to the satisfaction of NRCS that the applicant has addressed the nationally significant resource concerns of water quality and soil quality to the minimum level of treatment for all eligible land uses on the entire agricultural operation. Additionally, the applicant must agree to address another significant resource concern applicable to their watershed to be started no later than two years prior to contract expiration, and completed by the end of the contract period. If the applicable resource concern is already addressed or does not pertain to the operation, then this requirement is satisfied.

CSP Tier III—the benchmark condition inventory demonstrates to the satisfaction of NRCS that the applicant has addressed all of the existing resource concerns listed in Section III of the NRCS Field Office Technical Guide (FOTG) with a resource management system that meets the minimum level of treatment for all eligible land uses on the entire agricultural operation.

Delineation of the Agricultural Operation

Delineating an agricultural operation for CSP is an important part in determining the Tier of the contract, stewardship payments, and the required level of conservation treatment needed for participation. The applicant will delineate the agricultural operation to include all agricultural lands, and other lands such as farmstead, feedlots, and headquarters and incidental forestlands, under the control of the applicant and constituting a cohesive management unit that is operated with equipment, labor, accounting system, and management that are substantially separate from any other. In delineating the agricultural operation, Farm Service Agency (FSA) farm boundaries may be used. If FSA farm boundaries are used in the application, the entire farm area must be included within the delineation.

Minimum Eligibility Requirements

To be eligible to participate in CSP, the applicants must meet the requirements for eligible applicants, the land offered for contract must meet the definition of eligible land, and the conservation system on the land offered must meet the conservation standards as described below.

Eligible Applicants

To be eligible to participate, an applicant must:

(1) Be in compliance with the highly erodible land and wetland conservation provisions;

(2) Meet the Adjusted Gross Income requirements;

(3) Show control of the land for the life of the proposed contract period. If the applicant is a tenant, the applicant must provide NRCS with written evidence or assurance of control from the landowner, but a lease is not required. In the case of land allotted by the Bureau of Indian Affairs (BIA) or Tribal land, there is considered to be sufficient assurance of control;

(4) Share in risk of producing any crop or livestock and be entitled to share in the crop or livestock available for marketing from the agriculture operation. Landlords and owners are ineligible to submit an application for exclusively cash rented agriculture operations;

(5) Complete a benchmark condition inventory and associated information as described above for the entire agricultural operation or the portion being offered; and

(6) Supply information, as required by NRCS, to determine eligibility and support the tier, category, and subcategory placement for the program; including but not limited to, information related to eligibility criteria in this sign-up announcement; and information to verify the applicant's status as a beginning or limited resource farmer or rancher if applicable.

Eligible Land

To be eligible for enrollment in CSP, land must be:

(1) Private agricultural land;

(2) Private non-industrial forested land that is an incidental part of the agriculture operation;

(3) Agricultural land that is Tribal, allotted, or Indian trust land;

(4) Other incidental parcels, as determined by NRCS, which may include, but are not limited to, land within the bounds of working agricultural land or small adjacent areas (including non-cropped center pivot corners, linear practices, field borders, turn rows, intermingled small wet areas, or riparian areas); or

(5) Other land on which NRCS determines that conservation treatment will contribute to an improvement in an identified natural resource concern, including areas outside the boundary of the agricultural land or enrolled parcel such as farmsteads, ranch sites, barnyards, feedlots, equipment storage areas, material handling facilities, and other such developed areas. Other land must be treated in Tier III contracts.

Land Not Eligible for Enrollment in CSP

The following lands are ineligible for enrollment in CSP:

(1) Land enrolled in the Conservation Reserve Program, the Wetlands Reserve Program, or the Grassland Reserve Program;

(2) Public land, including land owned by a Federal, State, or local unit of government;

(3) Private non-industrial forest land that exceeds 10 acres in size individually, or 10 percent in aggregate of the total offered acres; and

(4) Any land that fails to meet the definition of eligible land.

Ineligible land referred to above needs to be delineated as part of the agricultural operation. This land may not receive CSP payments, but the conservation work on this land may be used to determine if an applicant meets minimum level of treatment requirements, the applicant's category placement, and may be described in the Conservation Stewardship Plan.

Land Not Eligible for Any Payment Component in CSP

Land that is used for crop production after May 13, 2002, that had not been planted, considered to be planted, or devoted to crop production, as determined by NRCS, for at least 4 of the 6 years preceding May 13, 2002, is not eligible for any payment component in CSP.

Conservation Standards for Tier I and Tier II—Minimum Level of Treatment

The following conservation standards apply for Tier I and Tier II:

(1) The minimum level of treatment on cropland for soil and water quality is considered achieved when the Soil and Water Eligibility Tool minimum thresholds are met for soil quality functions and water quality resource concerns.

(2) The minimum level of treatment on pastureland and rangeland for soil and water quality is considered achieved when the CSP Grazing Lands Eligibility Tool minimum thresholds are met for soil quality and water quality resource concerns.

Conservation Standards for Tier III—Minimum Level of Treatment

The minimum level of treatment for Tier III on any eligible landuse is met by achieving the required conservation standards specified for Tier I and Tier II requirements, plus meeting the quality criteria for the local NRCS FOTG for all existing resource concerns and the following specific criteria:

(A) The minimum requirement for water quantity—irrigation water management on cropland or pastureland is considered achieved when the current level of treatment and management for the system results in a water use index value of at least 50;

(B) The minimum requirement for wildlife is considered achieved when the current level of treatment and management for the system results in an index value of at least 0.5 of the habitat potential. States will use the Wildlife Habitat Eligibility Tool to determine index values, with the exception of Alaska, Hawaii, Guam, and Puerto Rico. They will use either a general or species specific habitat assessment guide, as determined by the State Conservationist.

CSP Contract Payments and Limits

CSP contract payments include one or more of the following components subject to the described limits:

(1) An annual per acre stewardship component for the benchmark conservation treatment. This component is calculated separately for each land use by multiplying the number of acres times the tier factor (0.05 for Tier I, 0.10 for Tier II, and 0.15 for Tier III) times the stewardship payment rate established for the watershed times the tier reduction factor (0.25 for Tier I and 0.50 for Tier II, and 0.75 for Tier III).

(2) An annual existing practice component for maintaining existing conservation practices. Existing practice payments will be calculated as a flat rate of 25 percent of the stewardship payment.

(3) An annual enhancement component for exceptional conservation effort and activities that provide increased resource benefits beyond the quality criteria for a given resource concern or go beyond the minimum requirements of a conservation standard. During initial contract development, participants may contract to complete both enhancement activities that are part of the benchmark inventory and new enhancement activities. All enhancement activities will be paid at a uniform compensation rate over the contract length. The total of all enhancement payments in any one year will not exceed $13,750 for Tier I, $21,875 for Tier II, and $28,125 for Tier III annually.

Enhancement Components Available in This Sign-up

Enhancement activities within the resource categories of water quality, soil quality, water management, grazing lands, wildlife, plants, air, and energy management will be available for sign-up CSP-08-01:

An advance enhancement payment may be made available in the FY 2008 sign-up. The advance enhancement payment may be available to contracts with the initial enhancement payment as determined in the benchmark inventory and interview. The advance enhancement payment would shift a portion of the contract's enhancement payment amount into the first-year payment and deduct it from the following years' payments.

Tier I contracts are for a five-year duration. Tier II and Tier III contracts are for a 5- to 10-year duration at the option of the participant. However, Tier II and Tier III applicants who select 5-year contracts will be given priority in category placement.

Future contract improvement modifications such as advancing tiers, adding land, and adding enhancements will not be offered to CSP-08-01 participants.

Total annual maximum contract payment limits are $20,000 for Tier I, $35,000 for Tier II, and $45,000 for Tier III, including any advance enhancement payment.

For more details on payment components, call or visit the local USDA Service Center, or view on the Web site at: http://www.nrcs.usda.gov/programs/csp/CSP_2008/2008_CSP_WS.html.

CSP Enrollment Categories and Subcategories

An eligible application will be placed in an enrollment category as follows:

(1) A single land use application will be placed in an enrollment category by applying the applicant's group level assignment, Tier, and applicant-selected contract length to the 2008 CSP Enrollment Category Matrix. An applicant's group level is assigned using the 2008 Conservation System Criteria By Land Use Table and the associated Stewardship Practice and Activity Lists provided in this notice. An application will be assigned to the highest group level that all conservation management units being offered meet. Only unique practices or activities that have been installed and maintained for at least two years prior to the sign-up period, and applied in every location suitable or needed to address resource concerns will be counted to assign an applicant's group level.

(2) A multiple land use application will be placed in the category of the land use with the largest number of offered acres. Category placement for a land use will follow the direction for single land use application category placement (see above).

The CSP will fund the enrollment categories in alphabetical order. If an enrollment category cannot be completely funded, then subcategories will be funded in the following order:

(1) Applicant is a limited resource producer, according to criteria specified in the USDA Limited Resource Farmers/Ranchers guidelines, or a Tribal member producing on Tribal or historically tribal lands;

(2) Applicant is a participant in an on-going monitoring program that is sponsored by an organization or unit of government that analyzes the data and has authority to take action to achieve improvements;

(3) Agricultural operation in a water conservation area or aquifer zone designated by a unit of government;

(4) Agricultural operation in a drought area designated by a unit of government in any two of the past three years before the sign-up dates;

(5) Agricultural operation in a water quality area with a priority on pesticides designated by a unit of government;

(6) Agricultural operation in a water quality area with a priority on nutrients designated by a unit of government;

(7) Agricultural operation in a water quality area with a priority on sediment designated by a unit of government;

(8) Agricultural operation in a non-attainment area for air quality or other local or regionally designated air quality zones designated by a unit of government;

(9) Agricultural operation in an area selected for the conservation of imperiled plants and animals, including threatened and endangered species, as designated by a unit of government; or

(10) All other applications.

Designated by a unit of government” means officially assigned a priority by a Federal, State, or local unit of government prior to this notice. Neither an agency, nor a committee or board who provides advice or makes decisions on programs delivered by the agency are considered units of government. If a category or subcategory cannot be fully funded, applicants may be offered the FY 2008 CSP contract payment on a prorated basis.

Signed in Washington, DC, on March 19, 2008.
Arlen Lancaster,
Vice President, Commodity Credit Corporation, Chief, Natural Resources Conservation Service.

BILLING CODE 3410-16-P

[FR Doc. E8-6177 Filed 3-26-08; 8:45 am]

BILLING CODE 3410-16-C